COUNCIL ON ENVIRONMENTAL QUALITY

White House Task Force on Energy Project Streamlining; Public Organization Meeting of the Proposed Rocky Mountain Energy Council

AGENCY: Council on Environmental Quality.

ACTION: Notice of meeting.

SUMMARY: The White House Task Force on Energy Project Streamlining will host a public meeting to solicit stakeholder input on the proposed formation of the Rocky Mountain Energy Council at the Sheraton Denver West hotel in Lakewood, Colorado.

DATES: Tuesday, August 26, 2003, from 8 a.m. to 12 p.m.

ADDRESSES: The Sheraton Denver West, 360 Union Boulevard, Lakewood, Colorado 80228, telephone (303) 987-2000.

FOR FURTHER INFORMATION CONTACT: Ms. Annette West at the White House Task Force on Energy Project Streamlining, 1000 Independence Avenue, WH-1, Washington, DC 20585; telephone (202) 586-3464; electronic mail at annette.west@hq.doe.gov (please note that Postal Service mail is delayed due to additional screening at the above address).

SUPPLEMENTARY INFORMATION: The proposed Rocky Mountain Energy Council is intended to be a State and Federal partnership that will allow a more effective management strategy for environmentally responsible renewable and nonrenewable energy production as well as cooperative development of energy policies on Federal and State public lands in the Rocky Mountain region. The Council will be responsible for fostering Federal/State partnerships and early collaboration for Federal and State Government decision-making on energy issues facing the Rocky Mountain region and the Nation. It is intended that the Council take a broader geographic and longer-term perspective on managing renewable and nonrenewable public energy resources, including their identification, production, and transmission to the market. The responsibility of the Council is to address and resolve issues affecting the environmentally responsible development of the valuable public energy resources.

State and Federal managers held a government to government planning and organization meeting on July 8-9, 2003. Participants included representatives from the States of Utah, Wyoming, Colorado, Montana, and those Federal Agencies with responsibilities for managing, authorizing, reviewing, consulting on, or certifying different aspects of energy projects on Federal lands. The objective of this meeting was to evaluate the benefits of creating a Rocky Mountain Energy Council (RMEC) and, if desired, determine what steps would be needed to organize and implement the RMEC. Participants agreed on the need for a Council to develop streamlined and forward-looking decision processes with respect to energy projects while preserving existing environmental protections.

Three functions for the RMEC were identified:

1. To develop Federal/State partnerships for the long-term management of renewable and nonrenewable energy resources on State and Federal public lands.

2. To allow more forward looking and strategic planning—on a regional basis—for the environmentally responsible development, production, and distribution of the Nation's valuable energy resources.

3. To develop processes for early collaboration and consultation among the State and Federal Agencies responsible for managing, authorizing, consulting on, reviewing, or certifying renewable and nonrenewable energy projects on public land.

Discussions at the July organizational meeting were largely exploratory, and focused on identifying impediments and possible solutions to the following issue areas: how to effectively foster Federal/State partnerships, processes for early collaboration, information sharing, decision processes, conflict resolution, and strategic planning. Issues identified included limited resources, conflicting agency mandates, regulatory and jurisdictional conflicts. A broad agreement was developed that this type of collaborative effort is necessary to address the cross cutting issues raised by energy development on public lands in the west.

The next step in the organizational process is to assure that the proposed Council has input from all interested stakeholders, including the public, industry, local organizations, and Tribal governments. The intent is to build upon the initial organizational discussions of the Council by collecting information and expectations from stakeholders, allowing a first official public meeting of the RMEC to be held by the end of 2003. The meeting is open to the public. Approximately 200 visitors can be accommodated on a first-come-first-served basis.

Upon request, interested parties may make oral or written presentations to the Federal and State managers. Such requests should be made no later than August 20, 2003, to Annette West. We request that oral statements be accompanied by a written summary of the statement to be made, which will be included in the minutes of the meeting. Please see the FOR FURTHER INFORMATION CONTACT section for the contact address and telephone number.

Minutes of the August 26, 2003, meeting will be available for public inspection and downloading at http://www.etf.energy.gov by September 26, 2003. Hard copies of the minutes can be requested at the FOR FURTHER INFORMATION CONTACT section above.

Dated: July 25, 2003.
James L. Connaughton,
Chairman, Council on Environmental Quality.

[FR Doc. 03-19471 Filed 7-30-03; 8:45 am]

BILLING CODE 3125-01-M